DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Quarterly Survey of the Finances Of Public-Employee Retirement Systems.

Form Number(s): F-10.

Agency Approval Number: 0607-0143.

Type of Request: Revision of a currently approved collection.

Burden: 300 hours.

Number of Respondents: 100.

Avg Hours Per Response: 45 minutes.

Needs and Uses: The Census Bureau requests continued OMB clearance of the Quarterly Survey of the Finances of Public Employee Retirement Systems. Over 2.1 trillion dollars in public-employee retirement system assets in the financial markets are controlled by a small number of large systems. The 1997 Census of Governments identified 2,276 state and local government administered public-employee retirement systems. The 100 largest systems, as measured by the system assets, account for about 90 percent of the total assets of all systems. This survey is used to collect financial data from these 100 systems for policy makers and economists to follow the changing characteristics of these funds.

We are proposing significant revisions to the survey form to make the form easier to complete. These changes pertain to decreasing the number of data items for the respondent to complete from forty-one to nineteen and the use of market value of assets. Previously, data on market and book values was collected but in light of the fact that most retirement systems use market in keeping with General Accounting Board Standards (GASB) rules, book has been removed from form F-10.

This survey was initiated by the Census Bureau at the request of both the Council of Economic Advisors and the Federal Reserve Board. The most important information this survey provides is the quarterly change in composition of the securities holdings of the public employee retirement systems component of the economy. The Federal Reserve Board uses these data to track the public sector portion of the flow of funds accounts. The Bureau of Economic Analysis uses the quarterly retirement information on corporate stock holdings to estimate dividends received by state and local government retirement systems that, in turn, are used in preparing the national income and product accounts. Additionally, these data are a significant part of the information base needed to analyze investment trends and help in the formulation of governmental economic policies and investment decisions.

Affected Public: State, local or Tribal government.

Frequency: Quarterly.

Respondent's Obligation: Voluntary.

Legal Authority: Title 13 U.S.C., section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or email (susan_schechter@omb.eop.gov).

Dated: November 14, 2002.
Madeleine Clayton,
Management Analyst, Office of the Chief Information Officer.

[FR Doc. 02-29378 Filed 11-19-02; 8:45 am]

BILLING CODE 3510-07-P